DEPARTMENT OF HOMELAND SECURITY

Coast Guard

[Docket No. USCG-2016-1059]

Towing Safety Advisory Committee; April 2017 Meeting

AGENCY: Coast Guard, Department of Homeland Security.

ACTION: Notice of Federal Advisory Committee meeting.

SUMMARY: The Towing Safety Advisory Committee will meet in Memphis, Tennessee, to review and discuss recommendations from its Subcommittees and to receive briefs on items listed in the agenda under SUPPLEMENTARY INFORMATION. All meetings will be open to the public.

DATES: The Subcommittees will meet on Tuesday, April 11, 2017, from 8 a.m. to 5:30 p.m. The full Towing Safety Advisory Committee will meet on Wednesday, April 12, 2017, from 8 a.m. to 5:30 p.m. These meetings may close early if the Subcommittees or Committee have completed its business.

ADDRESSES: All meetings will be held at the Doubletree Hotel by Hilton, 5069 Sanderlin Avenue, Memphis, Tennessee 38117. The telephone number for the Doubletree Hotel is 800-222-8733. The hotel Web site is: http://doubletree3.hilton.com/en/hotels/tennessee/doubletree-by-hilton-hotel-memphis-MEMEHDT/index.html

For information on facilities or services for individuals with disabilities, or to request special assistance at the meetings, contact the individual listed in FOR FURTHER INFORMATION CONTACT below as soon as possible.

Instructions: You are free to submit comments at any time, including orally at the meetings, but if you want committee members to review your comment before the meetings, please submit your comments no later than April 2, 2017. We are particularly interested in comments on the issues in the “Agenda” section below. You must include “Department of Homeland Security” and the docket number [USCG-2016-1059] in your submission. Written comments should be submitted using the Federal eRulemaking Portal: http://www.regulations.gov. If you encounter technical difficulties, contact Mr. William J. Abernathy. Comments received will be posted without alteration at http://www.regulations.gov including any personal information provided. You may review a Privacy Act notice regarding the Federal Docket Management System in the March 24, 2005 issue of the Federal Register (70 FR 15086).

Docket Search: For access to the docket to read documents or comments related to this notice, go to http://www.regulations.gov, and use “USCG-2016-1059” in the “Search” box, press Enter, and then click on the item you wish to view.

FOR FURTHER INFORMATION CONTACT: Commandant (CG-OES-2) ATTN: Mr. William J. Abernathy, Towing Safety Advisory Committee Alternate Designated Federal Officer, U.S. Coast Guard Stop 7509, 2703 Martin Luther King Jr. Avenue SE., Washington, DC 20593-7509; telephone 202-372-1363, fax 202-372-8387, or email at William.J.Abernathy@uscg.mil.

SUPPLEMENTARY INFORMATION: Notice of this meeting is in compliance with the Federal Advisory Committee Act (Title 5, U.S.C. Appendix). This committee is established in accordance with, and operates under the provisions of the Federal Advisory Committee Act. As stated in 33 U.S.C. 1231a, the Towing Safety Advisory Committee provides advice and recommendations to the Department of Homeland Security on matters relating to shallow-draft inland and coastal waterway navigation and towing safety.

Further information about the Towing Safety Advisory Committee is available here: http://www.facadatabase.gov. Click on the search tab and type “Towing Safety” into the search form.

Agenda of Meetings

A copy of each draft report and presentation as well as the meeting agenda will be available at: http://homeport.uscg.mil/tsac.

On April 11 and 12, 2017, the Towing Safety Advisory Committee and its subcommittees will meet to review, discuss, deliberate, and formulate recommendations, as appropriate, on the following:

Current Subcommittees and Tasks

a. Articulated Tug and Barge Operations and Manning (Task 15-02)

b. Electronic Charting Systems (Task 15-03)

c. Subchapter M Implementation (Task 16-01)

d. Inland Firefighting (Task 16-02)

e. Towing Liquefied Natural Gas Barges (Task 16-03)

Public comments or questions will be taken throughout the meeting as the committee discusses the issues and prior to deliberations and voting. There will also be a public comment period at the end of the meeting. Speakers are requested to limit their comments to 5 minutes. Please note that the public comment period may end before the period allotted, following the last call for comments. Contact the individual listed in the FOR FURTHER INFORMATION CONTACT section above to register as a speaker.

Notices of Future 2017 Towing Safety Advisory Committee Meetings

To receive automatic email notices of future Towing Safety Advisory Committee meetings in 2017, go to the online docket, USCG-2016-1059(http://www.regulations.gov/#!docketDetail;D=USCG-2016-1059), and select the Sign-up-for-Email-Alerts option. We plan to use the same docket number for all Towing Safety Advisory Committee meeting notices in 2017, so when the next meeting notice is published you will receive an email alert from http://www.regulations.gov when the notice appears in this docket, in addition to notices of other items being added to the docket.

Dated: March 10, 2017.
J.G. Lantz,
Director of Commercial Regulations and Standards.

[FR Doc. 2017-05179 Filed 3-14-17; 8:45 am]

BILLING CODE 9110-04-P